FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 010979-052.

Title: Caribbean Shipowners Association.

Parties: CMA CGM, S.A.; Seaboard Marine, Ltd.; Seafreight Line, Ltd.; Tropical Shipping and Construction Company Limited; and Zim Integrated Shipping Services, Ltd.

Filing Party: Wayne R. Rohde, Esq.; Cozen O'Connor, 1627 I Street NW.; Washington, DC 20006.

Synopsis: The amendment would add the Cayman Islands to the geographic scope of the agreement.

Agreement No.: 012129.

Title: EUKOR/“K” Line Space Charter Agreement.

Parties: EUKOR Car Carriers, Inc. and Kawasaki Kisen Kaisha, Ltd.

Filing Party: John P. Meade, Esq.; Vice-President; K-Line America, Inc.; 6009 Bethlehem Road; Preston, MD 21655.

Synopsis: The amendment adds Korea to the geographic scope of the agreement and updates the address of Kawasaki Kisen Kaisha, Ltd.

By Order of the Federal Maritime Commission.
Dated: February 22, 2013.
Karen V. Gregory,
Secretary.

[FR Doc. 2013-04591 Filed 2-26-13; 8:45 am]

BILLING CODE 6730-01-P